DEPARTMENT OF TRANSPORTATION

Federal Highway Administration

Supplemental Draft Environmental Impact Statement: Clackamas County, OR

AGENCY: Federal Highway Administration (FHWA), DOT.

SUMMARY: The FHWA is issuing this notice to advise the public that a supplement to a draft environmental impact statement will be prepared for a proposed project in Clackamas County, Oregon.

FOR FURTHER INFORMATION CONTACT: Michelle Eraut, Environmental Specialist, Federal Highway Administration, 530 Center Street, NE., Suite 100, Salem, Oregon 97301, Telephone (503) 587-4716.

SUPPLEMENTARY INFORMATION: The FHWA, in cooperation with the Oregon Department of Transportation and the Clackamas County Department of Transportation and Development, will prepare a supplement to the draft environmental impact statement (EIS) on a proposed transportation improvement project to the ORE 212 Corridor between I-205 and the junction of ORE 212 and ORE 224 at Rock Creek (4 miles). The U.S. Army Corps of Engineers has declined to serve as a cooperating agency on this supplemental draft EIS. The proposed transportation improvement will improve capacity and safety within the ORE 212 Corridor are based on needs identified in the Regional Transportation Plan.

The original Draft Sunrise Corridor EIS was approved in 1993 and covered the corridor between I-205 and US 26. Due to lack of funding and uncertainty on the planned urbanization of rural lands in the corridor, a final EIS was not prepared which would have documented the selection of a new limited access expressway as the regionally preferred alternative for the corridor. A recent reevaluation of the draft EIS concluded that the section from I-205 to Rock Creek Junction has an existing transportation need, has independent utility, and does not preclude any alternatives proposed for the section from Rock Creek Junction to US 26. The reevaluation also concludes that the project planning and regulatory context has changed sufficiently to warrant the preparation of a supplemental draft EIS. A Major Investment Study conducted in 1997 supported the build alternative concept of a new limited-access expressway on a new alignment between I-205 and the Rock Creek Junction. Public involvement and agency coordination activities will be used to confirm that the no-build and design variations of an expressway are an appropriate range of alternatives for consideration in the supplemental draft EIS. The adopted regional transportation plan has demonstrated that the capacity problems are not appropriately solved with transportation systems management or transit-only solutions.

Letters describing the proposed action and soliciting comments will be sent to appropriate Federal, State and local agencies, and to provide organizations and citizens who have previously expressed or are known to have an interest in this project. A series of public meetings will be held in the fall and winter of 2004/2005 and spring 2005. In addition, a public hearing will be conducted following the issuance of the supplemental draft EIS in the fall of 2005. Public notice will be given of the time and place of the meetings and hearing. The draft of the supplemental EIS will be available for public and agency review and comment prior to the public hearing. No formal scoping meeting is planned at this time.

To ensure the full range of issues related to this proposed action are addressed and all significant issues identified, comments and suggestions are invited from all interested parties. Comments or questions concerning this proposed action should be directed to the FHWA at the address provided above.

(Catalog of Federal Domestic Assistance Program Number 20.205, Highway Planning and Construction. The regulations implementing Executive Order 12372 regarding intergovernmental consultation on Federal programs and activities apply to this program)

Issued on: November 15, 2004.
Elton Chang,
Environmental Programs Coordinator, Oregon Division.

[FR Doc. 04-25673 Filed 11-18-04; 8:45 am]

BILLING CODE 4910-22-M